DEPARTMENT OF COMMERCE

National Oceanic and Atmospheric Administration

50 CFR Part 660

[RTID 0648-XA603]

Fisheries off West Coast States; West Coast Salmon Fisheries; Amendment 20 to the Pacific Coast Salmon Fishery Management Plan

AGENCY: National Marine Fisheries Service (NMFS), National Oceanic and Atmospheric Administration (NOAA), Commerce.

ACTION: Notification of agency decision.

SUMMARY: NMFS announces the approval of Amendment 20 to the Pacific Fishery Management Council's (Council) Pacific Coast Salmon Fishery Management Plan (FMP). Amendment 20 modifies the preseason schedule for implementing annual management measures and moves the southern boundary of the Klamath Management Zone (KMZ) 5 nautical miles (nmi) (9.3 km) north of its current location. In addition, Amendment 20 updates out-of-date language in the FMP.

DATES: The amendment was approved on April 22, 2021.

ADDRESSES: The amended FMP is available on the Council's website (www.pcouncil.org). The final National Environmental Policy Act environmental assessment (EA) is available on the NMFS website at https://www.fisheries.noaa.gov/west-coast/laws-and-policies/west-coast-salmon-harvest-nepa-documents.

FOR FURTHER INFORMATION CONTACT: Peggy Mundy at 206-526-4323.

SUPPLEMENTARY INFORMATION: The ocean salmon fisheries in the exclusive economic zone (3-200 nmi) (5.6-370.4 km) off Washington, Oregon, and California are managed under the FMP. The Magnuson-Stevens Fishery Conservation and Management Act (MSA) requires that each regional fishery management council submit any FMP or plan amendment it prepares to NMFS for review and approval, disapproval, or partial approval by the Secretary of Commerce (Secretary). The MSA also requires that NMFS, upon receiving an FMP or amendment, immediately publish a notification that the FMP or amendment is available for public review and comment.

The Notice of Availability (NOA) for Amendment 20 was published in the Federal Register on February 9, 2021 (86 FR 8750), with a 60-day comment period that ended on April 12, 2021. In the NOA, NMFS also announced a draft EA analyzing the environmental impacts of the actions implemented under Amendment 20 was available for public review and comment. NMFS received three comments during the public comment period on the NOA. The comments all expressed concern about potential fishery impacts on salmon stocks of concern from the KMZ boundary change. However, upon review, and informed by the analysis of the Council's Salmon Technical Team, NMFS concluded that any change in ocean salmon fishery impacts on salmon stocks of concern would be small and NMFS is not disapproving any part of Amendment 20 in response to these comments. NMFS summarized and responded to these comments under Comments and Responses, below.

NMFS determined that Amendment 20 is consistent with the MSA and other applicable laws, and the Secretary of Commerce approved Amendment 20 on April 22, 2021. The February 9, 2021, NOA contains additional information on this action. No changes to Federal regulations are necessary to implement the Amendment.

Amendment 20 was developed by the Council to address two primary issues: The preseason schedule for setting annual management measures, and the southern boundary of the KMZ in California. Under Amendment 20, the Council also recommended updating outdated language, typographical errors, and references. The Council adopted Amendment 20 at its September 2020 meeting.

Preseason Schedule

Amendment 20 changes the preseason schedule for NMFS to publish the annual management measures in the Federal Register. Under the previous schedule, NMFS published the annual management measures in the first week of May, which corresponds with the traditional May 1 start date for many ocean salmon fisheries. However, it has become increasingly challenging for the Council and NMFS to complete the necessary environmental and economic analyses and regulatory documentation following the April Council meeting in time for the Secretary of Commerce to approve and implement the Council's annual recommendation by May 1. Amendment 20 changes the schedule such that NMFS will publish the annual management measures in the second or third week of May, with an anticipated effective date of May 16. The annual management measures will include expected salmon fisheries for March through early May of the following year (e.g., regulations for the 2021 fishing year will including management measures for fisheries in March through May of 2022), pending modification through inseason action as needed in response to updated stock abundance forecasts. This has been the practice for March and April salmon fisheries since at least 1994.

KMZ Southern Boundary

The Council uses management boundaries and zones to manage the ocean salmon fishery consistent with the objectives in the FMP. The KMZ is a long-standing management zone that has extended from Humbug Mountain, OR, to Horse Mountain, CA, since at least 1990. Amendment 20 moves the southern boundary of the KMZ to align the salmon management boundary with an existing management boundary in the groundfish fishery, and to allow for increased efficiency in salmon fishery operations.

FMP Language Updates

Amendment 20 updates the text of the FMP to reflect changes to management reference points that were previously implemented through a rulemaking (80 FR 19564, April 13, 2015) for Southern Oregon coastal Chinook salmon, Grays Harbor fall-run Chinook salmon, and Willapa Bay natural coho salmon stocks. The reference points included in that action have been used in salmon fishery management since the final rule implementing them was promulgated.

Other updates to the FMP included in Amendment 20 include: Updates to reflect the 2013 merger of NMFS' Northwest and Southwest Regions, updates to the status and terminology of Endangered Species Act (ESA)-listed salmon evolutionarily significant units (ESU), dates for updated management agreements and treaties, and updated references.

Comments and Responses

During the public comment period for the NOA for Amendment 20, NMFS received three unique comments from three members of the public. NMFS's responses to these comments are presented below.

Comment 1: One commenter expressed concern that the schedule change could result in increased fishing before inseason actions could be implemented and enforced and that this, in combination with the KMZ boundary move, would cause damage to the salmon population. The commenter recommended moving the date of the April Council meeting as a solution.

Response: The Council's preseason process for salmon management includes a critical analysis of updated stock abundance forecasts and potential impacts from ocean salmon fisheries. The Council and NMFS have managed pre-May ocean salmon fisheries in response to updated forecast and fishery information for many years, often utilizing inseason management in conjunction with the March and-or April Council meetings to limit salmon fishery impacts. Salmon fishery impacts from pre-May fisheries are managed collectively with salmon fisheries from the rest of the year to meet stock-specific objectives in the FMP on an annual basis, based on stock abundance forecasts for the year. Moving the date of the annual rule to mid-May will not affect how fishery impacts are accounted for.

Moving the April Council meeting to an earlier date would not allow the Council to fully consider impacts on U.S. salmon stocks from northern salmon fisheries in Alaska and British Columbia. Under the Pacific Salmon Treaty (January 2020), the Pacific Salmon Commission has until April 1 to provide fishery impact model results and total allowable catch (TAC) information for Alaska and British Columbia salmon fisheries to the U.S. Commissioner, who reports that information to the Council at the April meeting. This information is among the suite of data used to develop the Council's annual management measures, which must meet the conservation and management criteria in the FMP and the provisions of the Pacific Salmon Treaty, in addition to any criteria for limiting impacts on species listed as threatened or endangered under the ESA.

Comment 2: One commenter submitted three identical comments. These comments referred to the draft EA that was prepared for Amendment 20. The commenter expressed support for boundary change Alternative 1.3 to reduce uncertainty of fishery impacts on salmon stocks listed under the ESA. The commenter was overall complimentary of the analysis in the draft EA, but felt social, cultural, and environmental justice analysis was lacking.

Response: NMFS appreciates the commenter's review of the draft EA. The Council recommended Alternative 1.2 to NMFS for approval by the Secretary of Commerce.

The EA for this action acknowledged the uncertainty associated with the boundary change, but concluded that the actions implemented under Amendment 20 will not significantly impact the quality of the human environment. Fisheries in the area affected by the boundary change have historically been closed to commercial fishing and, with the boundary change, could experience some level of commercial fishing consistent with management in the Fort Bragg management area. Fisheries in this area are managed using season, gear, species, and size limits to ensure catch of the target stocks is consistent with annual catch limits (ACLs), conservation objectives, and that impacts to salmon ESUs listed under the ESA as threatened or endangered are consistent with biological opinions. The Council's Salmon Technical Team (STT) concluded that the boundary change could lead to small effort shifts, but that these did not warrant any changes to model inputs for predicting the effects of the fisheries on target stocks. The STT also noted that the boundary change could result in some additional uncertainty about the incidental effects of the fisheries on coho and ESA-listed California Coastal Chinook salmon ESU, but concluded that any effects would likely be small.

The results of the STT's analysis show small changes in total salmon catch due to the limited geographic area involved in the boundary change, as well as the constraints on ocean salmon fisheries based on ACLs, conservation objectives, and measures analyzed and described in existing biological opinions. Thus, the proposed boundary change is expected to result in very small, if any, impacts to salmon abundance, and immeasurable, if any, impacts on prey availability for endangered Southern Resident Killer whales.

NMFS determined that there were no environmental justice impacts from the proposed action. We have added an environmental justice statement in the final EA.

Comment 3: One commenter expressed concern about fishery management and monitoring in the Eel River. The commenter stated that there was not enough research done on the environmental impacts from the boundary move and opined that the documents did not sufficiently address any potential environmental issues that will be caused by the movement of the boundary and/or subsequent overfishing, should it take place.

Response: NMFS appreciates the commenter's interest in the Eel River and its salmon. The Council and NMFS manage fisheries in the ocean, while in-river fisheries are managed by the states, in this case, the state of California. Amendment 20 does not affect fisheries in the Eel River.

With respect to the concern about the fishery impacts from the KMZ boundary change, please see NMFS' response to comment 2, above. Additionally, the MSA and the FMP have specific provisions to identify overfishing and address it should it occur. Amendment 20 does not change these provisions.

Authority: 16 U.S.C. 1801 et seq.

Dated: April 22, 2021.
Samuel D. Rauch, III,
Deputy Assistant Administrator for Regulatory Programs, National Marine Fisheries Service.

[FR Doc. 2021-08815 Filed 4-28-21; 8:45 am]

BILLING CODE 3510-22-P